Title 3—

The President

Notice of March 27, 2025

Continuation of the National Emergency With Respect to Significant Malicious Cyber-Enabled Activities

On April 1, 2015, by Executive Order 13694, the President declared a national emergency pursuant to the International Emergency Economic Powers Act (50 U.S.C. 1701 et seq.) to deal with the unusual and extraordinary threat to the national security, foreign policy, and economy of the United States constituted by the increasing prevalence and severity of malicious cyber-enabled activities originating from, or directed by persons located, in whole or in substantial part, outside the United States. The President issued Executive Order 13757 of December 28, 2016, Executive Order 13984 of January 19, 2021, Executive Order 14110 of October 30, 2023 (in relevant part), and Executive Order 14144 of January 16, 2025 (in relevant part), to take additional steps to address the national emergency declared in Executive Order 13694. Executive Order 14148 of January 20, 2025 (in relevant part), revoked Executive Order 14110.

These significant malicious cyber-enabled activities continue to pose an unusual and extraordinary threat to the national security, foreign policy, and economy of the United States. For this reason, the national emergency declared in Executive Order 13694, and with respect to which additional steps were taken in Executive Order 13757, Executive Order 13984, Executive Order 14110 (revoked by Executive Order 14148), and Executive Order 14144, must continue in effect beyond April 1, 2025. Therefore, in accordance with section 202(d) of the National Emergencies Act (50 U.S.C. 1622(d)), I am continuing for 1 year the national emergency declared in Executive Order 13694.

This notice shall be published in the Federal Register and transmitted to the Congress.

THE WHITE HOUSE,

March 27, 2025.

[FR Doc. 2025-05593

Filed 3-28-25; 11:15 am]

Billing code 3395-F4-P